INTERNATIONAL TRADE COMMISSION

[Investigation No. 337-TA-874]

Certain Products Having Laminated Packaging, Laminated Packaging, and Components Thereof; Institution of Investigation Pursuant to United States Code

AGENCY: U.S. International Trade Commission.

ACTION: Notice.

SUMMARY: Notice is hereby given that a complaint was filed with the U.S. International Trade Commission on February 20, 2013, under section 337 of the Tariff Act of 1930, as amended, 19 U.S.C. 1337, on behalf of Lamina Packaging Innovations LLC of Longview, Texas. An amended complaint was filed on March 12, 2013. The amended complaint alleges violations of section 337 based upon the importation into the United States, the sale for importation, and the sale within the United States after importation of certain products having laminated packaging, laminated packaging, and components thereof by reason of infringement of certain claims of U.S. Patent No. 6,207,242 (“the `242 patent”) and U.S. Patent No. 7,348,067 (“the `067 patent”). The amended complaint further alleges that an industry in the United States exists or is in the process of being established as required by subsection (a)(2) of section 337.

The complainant requests that the Commission institute an investigation and, after the investigation, issue an exclusion order and cease and desist orders.

ADDRESSES: The amended complaint, except for any confidential information contained therein, is available for inspection during official business hours (8:45 a.m. to 5:15 p.m.) in the Office of the Secretary, U.S. International Trade Commission, 500 E Street SW., Room 112, Washington, DC 20436, telephone (202) 205-2000. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at http://www.usitc.gov. The public record for this investigation may be viewed on the Commission's electronic docket (EDIS) at http://edis.usitc.gov.

FOR FURTHER INFORMATION CONTACT: The Office of Unfair Import Investigations, U.S. International Trade Commission, telephone (202) 205-2560.

Authority: The authority for institution of this investigation is contained in section 337 of the Tariff Act of 1930, as amended, and in section 210.10 of the Commission's Rules of Practice and Procedure, 19 CFR 210.10 (2012).

Scope Of Investigation: Having considered the complaint, the U.S. International Trade Commission, on March 22, 2013, ORDERED THAT—

(1) Pursuant to subsection (b) of section 337 of the Tariff Act of 1930, as amended, an investigation be instituted to determine whether there is a violation of subsection (a)(1)(B) of section 337 in the importation into the United States, the sale for importation, or the sale within the United States after importation of certain products having laminated packaging, laminated packaging, and components thereof by reason of infringement of one or more of claims 1, 17, and 25 of the `242 patent and claims 1 and 19 of the `067 patent, and whether an industry in the United States exists or is in the process of being established as required by subsection (a)(2) of section 337;

(2) Notwithstanding any Commission Rules that would otherwise apply, the presiding Administrative Law Judge shall hold an early evidentiary hearing, find facts, and issue an early decision, as to whether the complainant has satisfied the economic prong of the domestic industry requirement. Any such decision shall be in the form of an initial determination (ID). Petitions for review of such an ID shall be due five calendar days after service of the ID; any replies shall be due three business days after service of a petition. The ID will become the Commission's final determination 30 days after the date of service of the ID unless the Commission determines to review the ID. Any such review will be conducted in accordance with Commission Rules 210.43, 210.44, and 210.45, 19 CFR 210.43, 210.44, and 210.45. The Commission expects the issuance of an early ID relating to the economic prong of the domestic industry requirement within 100 days of institution, except that the presiding ALJ may grant a limited extension of the ID for good cause shown. The issuance of an early ID finding that the economic prong of the domestic industry requirement is not satisfied shall stay the investigation unless the Commission orders otherwise; any other decision shall not stay the investigation or delay the issuance of a final ID covering the other issues of the investigation.

(3) For the purpose of the investigation so instituted, the following are hereby named as parties upon which this notice of investigation shall be served:

(a) The complainant is: Lamina Packaging Innovations LLC, 3301 W. Marshal Avenue, Suite 303, Longview, TX 75604.

(b) The respondents are the following entities alleged to be in violation of section 337, and are the parties upon which the complaint is to be served:

Remy Cointreau USA, Inc., 1290 Avenue of the Americas, 10th Floor, New York, NY 10104.

Pernod Ricard USA LLC, 250 Park Avenue, New York, NY 10177.

John Jameson Import Company, 100 Manhattanville Road, Purchase, NY 10577.

Moet Hennessy USA, 85 Tenth Avenue, New York, NY 10011.

Champagne Louis Roederer, 21 Boulevard Lundy, 51100 Reims, France.

Maisons Marques & Domaines USA Inc., 383 Fourth Street, Suite 400, Oakland, CA 94607.

Freixenet USA, 967 Broadway, Sonoma, CA 95476.

L'Oreal USA, Inc., 575 Fifth Avenue, New York, NY 10017.

Hasbro, Inc., 1027 Newport Avenue, Pawtucket, RI 02861.

Cognac Ferrand USA, Inc., 454 5th Avenue, Suite 640, New York, NY 10018.

WJ Deutsch & Son, 709 Westchester Avenue, Suite 300, White Plains, NY 10604.

Diageo North America, Inc., 801 Main Avenue, Norwalk, CT 06851.

Sidney Frank Importing Co., Inc., 20 Cedar Street, New Rochelle, NY 10801.

Beats Electronics LLC, 1601 Cloverfield Boulevard, Suite 5000N, Santa Monica, CA 90404.

Camus Wines & Spirits Group, 29 Rue Marguerite de Navarre, 16100 Cognac, France.

(c) The Office of Unfair Import Investigations, U.S. International Trade Commission, 500 E Street SW., Suite 401, Washington, DC 20436; and

(4) For the investigation so instituted, the Chief Administrative Law Judge, U.S. International Trade Commission, shall designate the presiding Administrative Law Judge.

Responses to the amended complaint and the notice of investigation must be submitted by the named respondents in accordance with section 210.13 of the Commission's Rules of Practice and Procedure, 19 CFR 210.13. Pursuant to 19 CFR 201.16(d)-(e) and 210.13(a), such responses will be considered by the Commission if received not later than 20 days after the date of service by the Commission of the amended complaint and the notice of investigation. Extensions of time for submitting responses to the amended complaint and the notice of investigation will not be granted unless good cause therefor is shown.

Failure of a respondent to file a timely response to each allegation in the amended complaint and in this notice may be deemed to constitute a waiver of the right to appear and contest the allegations of the amended complaint and this notice, and to authorize the administrative law judge and the Commission, without further notice to the respondent, to find the facts to be as alleged in the amended complaint and this notice and to enter an initial determination and a final determination containing such findings, and may result in the issuance of an exclusion order or a cease and desist order or both directed against the respondent.

Issued: March 22, 2013.
By order of the Commission.
Lisa R. Barton,
Acting Secretary to the Commission.

[FR Doc. 2013-07130 Filed 3-27-13; 8:45 am]

BILLING CODE 7020-02-P